DEPARTMENT OF TRANSPORTATION

Federal Aviation Administration

Large Agricultural Restricted Category Airplane Certification Topics and Twin Engine Large Agricultural Restricted Category Airplane Certification Basis Proposal—AT-2002 Project

AGENCY: Federal Aviation Administration, DOT.

ACTION: Notice of proposed policy and request for public comment.

SUMMARY: This notice announces the availability of and requests comments on two documents concerning airworthiness standard for restricted category type certificates for large airplanes that are to be used for agricultural, firefighting, and special purpose operations. The first document “Large Agricultural Restricted Category Airplane Topics” addresses two topics concerning design criteria for a large airplane weighing 19,000 pounds or less maximum certificated takeoff weight. For reference purposes, the first document also provides an overview of the second document. The second document “Twin Engine Large Agricultural Restricted Category Airplane Certification Basis Proposal AT-2002 Project” presents a proposed certification basis for twin-engine airplanes having a certificated maximum weight of 36,000 pound. The proposed certification bases contains many airworthiness standards currently in Title 14 of the Code of Federal Regulations (14 CFR) part 23, rather than 14 CFR part 25.

DATES: Comments must be received on or before July 2, 2004.

ADDRESSES: Send all comments on the proposals to: Federal Aviation Administration, Aircraft Certification Service, Aircraft Engineering Division, Room 815, 800 Independence Avenue, SW., Washington, DC 20591. Attn: Stephen (Steve) Flanagan, AIR-110. You may deliver comments to: Federal Aviation Administration, Room 815, 800 Independence Avenue, SW., Washington, DC, 20591, or electronically submit comments to the following Internet address: 9-AWA-AVR-AIR-Policycomments@faa.gov. Include in the subject line of your message the title of the document on which you are commenting.

FOR FURTHER INFORMATION CONTACT: Stephen (Steve) Flanagan, Aerospace Engineer, Federal Aviation Administration, Aircraft Certification Service, Aircraft Engineering Division, Certification Procedures Branch, AIR-110, Room 815, 800 Independence Avenue SW., Washington, DC 20591, Telephone (202) 267-3549, Fax (202) 267-5340, or e-mail at: steve.flanagan@faa.gov

SUPPLEMENTARY INFORMATION:

Comments Invited

You are invited to comment on the proposals listed in this notice by sending such written data, views, or arguments to the above listed address. Your comment should identify “Large Agricultural Restricted Category Airplane Certification Basis Proposal” or “Single Engine Large Agricultural Restricted Category Airplane Proposal” as appropriate. You may also examine comments received on the proposals before and after the comment closing date at the FAA Headquarters Building, Room 815, 800 Independence Avenue SW., Washington, DC 20591, weekdays except Federal holidays, between 8:30 a.m. and 4:30 p.m. The Director of the Aircraft Certification Service will consider all communications received on or before the closing date before implementing these proposals.

Background

The first document “Large Agricultural Restricted Category Airplane Topics” addresses two topics concerning design criteria for a large airplane that would weight 19,000 pounds or less maximum certificated takeoff weight. The first topic is the appropriate limit maneuvering load factor for the airplane. The second topic presents the FAA discussion explaining our agreement with the applicant's proposal that a single engine design for a small to medium size airplane is safer than a multi-engine design for the agricultural and firefighting special purpose operations. For reference purposes, the first document also provides an overview of the second document.

The second document “Twin Engine Large Agricultural Restricted Category Airplane Certification Basis Proposal AT-2002 Project” explains how the FAA and the applicant have developed a proposed certification basis for a twin-engine 36,000-pound airplane. The proposed certification basis uses many airworthiness standards from 14 CFR part 23, rather than 14 CFR part 25 requirements. Our rationale for this is based on the difference between transport category and restricted category safety expectations.

The FAA developed these proposals based on an applicant's proposal that using 14 CFR part 25 airworthiness standards for a large agricultural restricted category airplane is excessively burdensome for an airplane that is only suitable for use in the unique special purpose operations of agricultural and forest and wildlife conservation (14 CFR 21.25(b)(1) and 21.25(b)(2)). The FAA agrees that the growth of turboprop engine power capability permits development of restricted category airplanes that are heavier than envisioned when the weight limits for normal, utility, and acrobatic category were originally established. FAA contends that these proposals are appropriate relief from the weight limits of normal, utility, or acrobatic category airplanes. This relief is appropriate only for airplanes that by design are suited only for their intended special purpose, and will not be eligible for a standard airworthiness certificate.

How To Obtain Copies

You can get an electronic copy via the Internet at http://www.airweb.faa.gov/rgl or by contacting the person named in the paragraph FOR FURTHER INFORMATION CONTACT.

Issued in Washington, DC, on May 30, 2004.
Susan J. M. Cabler,
Assistant Manager, Aircraft Engineering Division, Aircraft Certification Service.

[FR Doc. 04-10642 Filed 5-10-04; 8:45 am]

BILLING CODE 4910-13-M